DEPARTMENT OF COMMERCE

National Telecommunications and Information Administration

Innovative Spectrum Sharing Technology Day Event

AGENCY: National Telecommunications and Information Administration, U.S. Department of Commerce; National Institute of Standards and Technology, U.S. Department of Commerce.

ACTION: Notice.

SUMMARY: The National Telecommunications and Information Administration (NTIA) and the National Institute of Standards and Technology (NIST), with the support of the National Coordination Office of the Networking and Information Technology Research and Development (NITRD) program, will co-host the Innovative Spectrum Sharing Technology Day on November 5, 2013. The Technology Day will showcase advances in spectrum sharing and other innovations and initiatives aimed at satisfying the nation's surging demand for wireless services, devices and applications. The event will be open to the public and will provide policy-makers, researchers, industry stakeholders, and federal agency representatives the opportunity to witness live demonstrations of innovative wireless technologies and applications. President Obama, supported by the President's Council of Advisors on Science and Technology, has focused on the use of spectrum sharing technology innovations to enhance spectrum efficiency and to expedite commercial access to spectrum bands where technically and economically feasible.

DATES: The Innovative Spectrum Sharing Technology Day will be held on November 5, 2013, from 10 a.m. to 3 p.m. Eastern Standard Time.

ADDRESSES: The event will take place at the U.S. Department of Commerce, Herbert C. Hoover Building, Lobby and Auditorium, 1401 Constitution Avenue NW., Washington, DC (The entrance to the building is on 14th Street between Pennsylvania and Constitution Avenues NW.)

FOR FURTHER INFORMATION CONTACT: Wendy Wigen, NITRD at (703) 292-7921 or wigen@nitrd.gov. All media inquiries should be directed to Juliana Gruenwald, NTIA, at jgruenwald@ntia.doc.gov or (202) 482-2145, or Jennifer Huergo, NIST, at jennifer.huergo@nist.gov or (301) 975-6343.

SUPPLEMENTARY INFORMATION: NTIA, NIST and White House officials will kick off the morning session (10:00 a.m. to 12:00 p.m. Eastern Standard Time) with introductory remarks. This will be followed by a panel discussion focused on a variety of spectrum research and policy initiatives. The afternoon session (12:00 to 3:00 p.m. Eastern Standard Time) will feature demonstrations and exhibits by invited participants in the lobby of the Herbert C. Hoover Building. The event will be open to the public and press on a first-come, first-served basis, as space is limited. Due to security requirements and to facilitate entry to Commerce's Herbert C. Hoover Building, U.S. nationals must present valid, government-issued photo identification upon arrival. Foreign nationals must contact Wendy Wigen, NITRD at (703) 292-7921 or wigen@nitrd.gov at least five (5) business days prior to the event in order to provide the necessary clearance information, and must present valid, government-issued photo identification upon arrival. Please allow additional time to process through security.

The event is physically accessible to people with disabilities. Individuals requiring accommodations, such as sign language interpretation or other ancillary aids, are asked to notify Wendy Wigen, NITRD at (703) 292-7921 or wigen@nitrd.gov, at least five (5) business days before the event. Additional information regarding the event will be available on the NTIA and NIST home pages at www.ntia.doc.gov and www.nist.gov.

Dated: October 23, 2013.
Kathy D. Smith,
Chief Counsel, National Telecommunications and Information Administration.

[FR Doc. 2013-25391 Filed 10-25-13; 8:45 am]

BILLING CODE 3510-60-P